DEPARTMENT OF AGRICULTURE

Forest Service

Tuolumne County Resource Advisory Committee

AGENCY: Forest Service, USDA.

ACTION: Notice of meeting.

SUMMARY: The Tuolumne County Resource Advisory Committee will meet on April 15, 2002, at the City of Sonora Fire Department, in Sonora, California. The purpose of the meeting is to agree on evaluation criteria, review project proposals, and select first projects.

DATES: The meeting will be held April 15, 2002, from 12:30 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370 (209) 532-3671; e-mail pkaunert@fs.fed.us.

SUPPLEMENTARY INFORMATION: Agenda items to be covered include: (1) Old business: meeting norms and roles; Committee administrative costs; (2) new business: subcommittee report out on format for project proposals and proposed evaluation criteria; review project proposals; vote on and select some projects; determine future subcommittee needs; (3) public comment; and (4) next meeting purpose. The meeting is open to the public. Those in attendance will be provided the opportunity to address the Committee.

Dated: March 11, 2002.
Ben Del Villar,
Forest Supervisor.

[FR Doc. 02-6380 Filed 3-15-02; 8:45 am]

BILLING CODE 3410-ED-M